DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Special Interest Projects (SIP) 15-007, HPV Vaccine Impact among Men who have Sex with Men (MSM), and, SIP 15-009, Serosorting and Other Seroadaptive Behaviors among Men who have Sex with Men (MSM) in the US-designing a Brief Survey Tool for Use in Clinical Practice.

Time and Date: 10:00 a.m.-6:00 p.m., May 18, 2015 (Closed).

Place: Teleconference.

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “HPV Vaccine Impact among Men who have Sex with Men (MSM), SIP 15-007, and, Serosorting and Other Seroadaptive Behaviors among Men who have Sex with Men (MSM) in the US-designing a Brief Survey Tool for Use in Clinical Practice, SIP 15-009.”

Contact Person for More Information: Brenda Colley Gilbert, Ph.D., M.S.P.H., Director, Extramural Research Program Operations and Services, CDC, 4770 Buford Highway NE., Mailstop F-80, Atlanta, Georgia 30341, Telephone: (770) 488-6295, BJC4@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-09647 Filed 4-24-15; 8:45 am]

BILLING CODE 4163-18-P